DEPARTMENT OF COMMERCE

National Oceanic and Atmospheric Administration

50 CFR Part 679

[Docket No. 030922237-4183-03; I.D. 082503D]

RIN 0648 AQ98

Fisheries of the Exclusive Economic Zone Off Alaska; Individual Fishing Quota (IFQ) Program; Community Purchase

AGENCY: National Marine Fisheries Service (NMFS), National Oceanic and Atmospheric Administration (NOAA), Commerce.

ACTION: Final rule: effectiveness of collection-of-information requirements.

SUMMARY: NMFS announces approval by the Office of Management and Budget (OMB) of collection-of-information requirements contained in regulations implementing Amendment 66 to the Fishery Management Plan for Groundfish of the Gulf of Alaska (FMP). This action provides authority to implement certain reporting requirements necessary to implement the Individual Fishing Quota (IFQ) Community Purchase Program. The intent of this final rule is to inform the public of the effective date of the requirements.

DATES: Sections 679.5(l)(8), 679.41(d)(1), (l)(3), and (l)(4), published at 69 FR 23681 (April 30, 2004) are effective on July 22, 2004.

ADDRESSES: Any comments regarding burden-hour estimates for collection-of-information requirements contained in this final rule should be sent to Lori Durall, NMFS, Alaska Region, P.O. Box 21668, Juneau, AK 99802, phone: (907)586 7247, e-mail: lori.durall@noaa.gov, and to David Rostker, OMB, e-mail: DavidlRostker@omb.eop.gov, or fax: (202)395 7285.

FOR FURTHER INFORMATION CONTACT: Patsy A. Bearden, NMFS, 907-586-7228 or e-mail at patsy.bearden@noaa.gov.

SUPPLEMENTARY INFORMATION: A final rule that implemented the measures contained in Amendment 66 was published in the Federal Register on April 30, 2004 (69 FR 23681), and most of the measures became effective June 1, 2004. On May 18, 2004, OMB approved the reporting requirements submitted under OMB control number 0648-0272 (IFQ Program) that are contained in the final rule implementing Amendment 66. This rule makes the following requirements effective: a Community Quota Entity (CQE) Annual Report (§ 679.5(l)(8)); Approval of Transfer from Governing Body (§ 679.41(l)(4)); Application to Become a Community Quota Entity (CQE) (§ 679.41(l)(3)); Application for Transfer of Quota Share (QS) to CQE (§ 679.41(l)(4)); and Community Petition to Form Governing Body (§ 679.41(l)(3)(v)(E)).

Classification

This final rule has been determined to be not significant for the purposes of Executive Order 12866.

Notwithstanding any other provision of the law, no person is required to respond to, nor shall any person be subject to a penalty for failure to comply with, a collection of information subject to the requirements of the Paperwork Reduction Act (PRA), unless that collection of information displays a currently valid OMB control number.

This rule contains collection-of-information requirements subject to the PRA that have been approved by OMB under control number 0648-0272. The estimated time per response to submit a CQE annual report is 40 hours; Approval of Transfer from Governing Body is 30 minutes; Application to become a CQE is 200 hours; Application for Transfer of QS to CQE is 2 hours; and Community petition to form governing body is 10 hours.

The estimated response time includes the time needed for reviewing instructions, searching existing data sources, gathering and maintaining the data needed, and completing and reviewing the collection of information. Send comments regarding these reporting burden estimates or any other aspect of the collection-of-information, including suggestions for reducing the burden, to NMFS and OMB (see ADDRESSES).

Authority: 16 U.S.C. 1801 et seq.

Dated: June 16, 2004.
Rebecca Lent,
Deputy Assistant Administrator for Regulatory Programs, National Marine Fisheries Service.

[FR Doc. 04-14111 Filed 6-21-04; 8:45 am]

BILLING CODE 3510-22-S